DEPARTMENT OF THE INTERIOR

Bureau of Land Management

Notice of Intent To Prepare an Amendment to the Hollister Resource Management Plan for the Clear Creek Management Area in the Southern Portion of San Benito County and Western Fresno County, CA

AGENCY: Bureau of Land Management, Interior.

ACTION: Notice of intent to prepare an amendment to the Hollister Resource Management Plan (RMP) for the Clear Creek Management Area in the southern portion of San Benito County and western Fresno County, CA.

SUMMARY: Pursuant to 43 CFR 1610.2(c), notice is hereby given that the Bureau of Land Management proposes to prepare an Environmental Assessment (EA) that will revise the Clear Creek Management Area Plan, and analyze the effects of amending the Hollister RMP for the Clear Creek Management Area, as amended, 1999. The proposed amendment will establish or revise designations of areas and trails for off-road vehicles (ORV) in accordance with 43 CFR subpart 8342, and delineate the boundaries of the expansion of the San Benito Mountain Research Natural Area. The proposals will pertain to public lands addressed by the Clear Creek Management Area RMP Amendment in the Clear Creek Management Area of southern San Benito County and western Fresno County, California. The plan amendment will fulfill the needs and obligations set forth by the National Environmental Policy Act (NEPA), the Federal Land Policy and Management Act (FLPMA), and BLM management policies. The BLM will work collaboratively with interested parties to identify the management decisions that are best suited to local, regional, and national needs and concerns. The public scoping process will identify planning issues and develop planning criteria, including an evaluation of the existing RMP in the context of the needs and interests of the public.

DATES: Comments on issues and planning criteria can be submitted in writing to the address listed below. All public meetings will be announced at least 15 days prior to the event.

ADDRESSES: Comments should be sent to Robert Beehler, Field Manager, Bureau of Land Management, Hollister Field Office, 20 Hamilton Court, Hollister, CA 95023. Documents pertinent to this proposal may be examined at the Hollister Field Office at the address listed above. Comments, including names and addresses of respondents, will be available for public review at the Hollister Field Office during normal working hours (7:30 a.m. to 4 p.m., except holidays), and may be published as part of the EA or other related documents. Individuals may request confidentiality. If you wish to withhold your name or address from public review or from disclosure under the Freedom of Information Act, you must state this promptly at the beginning of you comment. Such requests will be honored to the extent allowed by law. All submissions from organizations or businesses will be made available for public inspection in their entirety.

FOR FURTHER INFORMATION CONTACT: George E. Hill, Assistant Field Manager, at the above address, telephone number (831) 630-5036, or e-mail: George_Hill@ca.blm.gov.

SUPPLEMENTARY INFORMATION: Public input from previous public meetings and written comments in response to previous designations efforts will be used to define issues. Preliminary issues identified include: Providing for off-highway vehicle use; providing vehicle access for other casual uses; visitor safety; providing protection for listed and sensitive species and habitats; protection and viability of the unique forest and vegetation communities within the San Benito Mountain Research Natural Area. Planning criteria will include honoring valid existing rights. The amendments will be consistent with officially approved resource related plans, policies and programs of other Federal agencies, and State and local governments, so long as the guidance and plans are consistent with the purposes, policies and programs of Federal laws and regulations applicable to public lands. The proposed route of travel and barrens designation changes to the Hollister RMP for the Clear Creek Management Area, including designation of the boundaries of the San Benito Mountain Research Natural Area, requires a formal plan amendment before the designations can be implemented. The amendment process and ORV trail designations shall be conducted in compliance with the Federal Land Policy Management Act of 1976 (FLPMA), planning regulations (43 CFR 1600), ORV trail designation regulations (43 CFR 8340), BLM manual guidance, and all applicable Federal laws affecting BLM land use decisions and ORV designations.

The Bureau intends to rely largely on route inventory data, soil loss surveys, information obtained from coordination with other federal, state, and local agencies, consultation with the Technical Review Team, and public comments.

Dated: February 6, 2003.
Robert E. Beehler,
Field Manager.

[FR Doc. 03-10438 Filed 4-28-03; 8:45 am]

BILLING CODE 4310-40-P